DEPARTMENT OF DEFENSE

Office of the Secretary

[Transmittal No. 23-35]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-35, Policy Justification, and Sensitivity of Technology.

Dated: October 2, 2024.
Aaron T. Siegel,
Alternate OSD Federal Register Liaison Officer, Department of Defense.

Transmittal No. 23-35

Notice of Proposed Issuance of Letter of Offer Pursuant to Section 36(b)(1) of the Arms Export Control Act, as amended

(i) Prospective Purchaser: Government of Ukraine

(ii) Total Estimated Value:

Major Defense Equipment * | $30 million
Other | $255 million
TOTAL | $285 million

Funding Source: National Funds.

(iii) Description and Quantity or Quantities of Articles or Services under Consideration for Purchase: The Government of Ukraine has requested to buy the National Advanced Surface-to-Air Missile System (NASAMS), that includes:

Major Defense Equipment (MDE):

One (1) AN/MPQ-64F1 Sentinel Radar

Non-MDE:

Also included are a Fire Distribution Center (FDC); canister launchers, secure communications, GPS receivers, code loaders, and cable sets; tool kits; test equipment; support equipment; prime movers; generators; technical documentation; spare parts; U.S. Government and contractor technical support; and other related elements of logistics and program support.

(iv) Military Department: Army (JU-B-UAC)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: May 24, 2023

* As defined in Section 47(6) of the Arms Export Control Act.

POLICY JUSTIFICATION

Ukraine—National Advanced Surface-to-Air Missile System (NASAMS)

The Government of Ukraine has requested to buy the National Advanced Surface-to-Air Missile System (NASAMS), that includes: one (1) AN/MPQ-64F1 Sentinel Radar. Also included are a Fire Distribution Center (FDC); canister launchers, secure communications, GPS receivers, code loaders, and cable sets; tool kits; test equipment; support equipment; prime movers; generators; technical documentation; spare parts; U.S. Government and contractor technical support; and other related elements of logistics and program support. The total estimated cost is $285 million.

This proposed sale will support the foreign policy goals and national security objectives of the United States by improving the security of a partner country that is a force for political stability and economic progress in Europe.

Ukraine has an urgent need to increase its capabilities to defend against Russian missile strikes and aircraft. Acquiring and effectively deploying this capability will enhance Ukraine's ability to defend its people and protect critical national infrastructure.

The proposed sale of this equipment and support will not alter the basic military balance in the region.

The principal contractor will be Raytheon Missiles and Defense, Tucson, AZ. There are no known offset agreements proposed in connection with this potential sale.

Implementation of this proposed sale will not require the assignment of any additional U.S. Government or contractor representatives to Ukraine.

There will be no adverse impact on U.S. defense readiness as a result of this proposed sale.

Transmittal No. 23-35

Notice of Proposed Issuance of Letter of Offer Pursuant to Section 36(b)(1) of the Arms Export Control Act

Annex

Item No. vii

(vii) Sensitivity of Technology:

1. National Advanced Surface-to-Air Missile System (NASAMS) Medium Range Air Defense System (MRADS) Description. This is a System of Systems (SOS) consisting of the Sentinel Radar, the Fire Distribution Center (FDC), the AIM-120 Advanced Medium Range Air-to-Air Missile (AMRAAM), the AIM-120 Extended Range Missile (AMRAAM-ER), and the AIM-9X Missile. The NASAMS MRADS is designed for mid-range air defense and can be deployed to engage fixed wing and rotary wing aircraft, cruise missiles, and unmanned aerial systems (UASs). The NASAMS MRADS is not a Program of Record (POR) for the U.S. Department of Defense, but the SOS architecture does consist of several PORs: the U.S. Army's AN/MPQ-64 Sentinel radar, the U.S. Air Force's AIM-120 AMRAAM missile, and the U.S. Navy's AIM-9X Missile. The NASAMS is comprised of both U.S.- and Norwegian-manufactured components. Norwegian components will be procured by the Raytheon Company. Norwegian involvement will be managed by Raytheon using export authorizations received from the U.S. Department of State.

2. NASAMS Fire Unit (FU). Consists of one fire distribution center (FDC); one AN/MPQ-64F1surveillance, acquisition, and tracking radar; three truck-mounted Canister Launchers (LCHR); and the High Mobility Launcher (HML).

3. Fire Distribution Center (FDC). The command & control entity, FDC, is the major operator interface in NASAMS. It provides all command-and-control functionality necessary to effectively conduct Air Defense missions, both in a stand-alone configuration as well as in a netted configuration integrated with other units. The FDC interfaces and controls the AN/MPQ-64F1 Sentinel radar and the Canister and High Mobility-Launchers. The FDC also interfaces (voice and data) to the national command and control structure.

4. AN/MPQ-64F1 Sentinel Radar. This is the organic mobile Air Defense acquisition and tracking sensor for the United States Army. Sentinel provides persistent air surveillance and fire control quality data through command-and-control systems to defeat UAS, cruise missiles, and fixed-wing and rotary-wing aircraft threats.

5. Canister Launcher (CLS). Purpose is to transport, aim, and fire the U.S. Air Force AMRAAM, AMRAAM-ER, and the U.S. Navy AIM-9X Sidewinder missiles. Under the remote control of the FDC, the launcher permits rapid launching of one or more missiles against single or multiple targets and can support 6 engagements simultaneously. The launcher provides 360-degree, all weather, day and night, missile launch capability.

6. The highest level of classification of defense articles, components, and services included in this potential sale is SECRET.

7. If a technologically advanced adversary were to obtain knowledge of the specific hardware and software elements, the information could be used to develop countermeasures that might reduce weapon system effectiveness or be used in the development of a system with similar or advanced capabilities.

8. A determination has been made that Ukraine can provide substantially the same degree of protection for the sensitive technology being released as the U.S. Government. This sale is necessary in furtherance of the U.S. foreign policy and national security objectives outlined in the Policy Justification.

9. All defense articles and services listed in this transmittal have been authorized for release and export to the Government of Ukraine.

[FR Doc. 2024-23109 Filed 10-4-24; 8:45 am]

BILLING CODE 6001-FR-P